INTERNATIONAL TRADE COMMISSION

[Investigation No. 337-TA-1352]

Certain Selective Thyroid Hormone Receptor-Beta Agonists, Processes for Manufacturing or Relating to Same, and Products Containing Same; Notice of a Commission Determination Not To Review an Initial Determination Granting a Motion To Intervene

AGENCY: International Trade Commission.

ACTION: Notice.

SUMMARY: Notice is hereby given that the U.S. International Trade Commission (the “Commission”) has determined not to review an initial determination (“ID”) (Order No. 37) granting a motion to intervene in the above-captioned investigation.

FOR FURTHER INFORMATION CONTACT: Carl P. Bretscher, Office of the General Counsel, U.S. International Trade Commission, 500 E Street SW, Washington, DC 20436, telephone (202) 205-2382. Copies of non-confidential documents filed in connection with this investigation may be viewed on the Commission's electronic docket system (“EDIS”) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on February 9, 2023, based on a complaint, as supplemented, filed by Viking Therapeutics, Inc. of San Diego, California (“Viking”). 88 FR 8455-56 (Feb. 9, 2023). The complaint alleges a violation of section 337 the Tariff Act, as amended, 19 U.S.C. 1337, by way of the importation, sale for importation, or sale in the United States after importation of certain selective thyroid hormone receptor-beta agonists, processes for manufacturing or relating to same, and products containing same by reason of misappropriation of trade secrets, the threat or effect of which is to destroy or substantially injure a domestic industry or prevent the establishment of a domestic industry. Id. The named respondents include Ascletis Pharma Inc. of Hangzhou, Zhejiang Province, China; Ascletis Pharmaceuticals Co. of Shaoxing, Zhejiang Province, China; Ascletis Bioscience Co. of Hangzhou, Zhejiang Province, China; Gannex Pharma Co. of Shanghai, China; and Jinzi Jason Wu of Seattle, Washington (all collectively, “the Ascletis Respondents”). Id. The Office of Unfair Import Investigation is also participating in the investigation. Id.

On June 30, 2023, Viking filed an Omnibus Motion for Monetary and Non-Monetary Sanctions Against Respondents and their Counsel, alleging failure to cooperate during discovery, failure to cooperate during forensic examinations, and violations of the terms of certain orders.

On August 10, 2023, Foster, Murphy, Altman & Nickel, PC (“Foster Murphy”) moved to intervene in this investigation for the limited purpose of defending Foster Murphy and its attorneys' interest in response to complainant Viking's omnibus motion for sanctions. The motion was unopposed.

On August 28, 2023, the presiding administrative law judge (“ALJ”) issued the subject ID (Order No. 37) pursuant to Commission Rule 210.19 (19 CFR 210.19) granting Foster Murphy's motion to intervene. Order No. 37 (Aug. 28, 2023). The ALJ states that the sanctions motion seeks joint and several liability between the Ascletis Respondents and Foster Murphy for discovery abuse. Id. at 4-5. The ALJ finds that Viking's sanctions motion makes specific allegations that implicate Foster Murphy and its attorneys. Id. at 5. The ALJ finds that, in view of these separate interests, the limited purpose of the intervention, and the lack of opposition, Foster Murphy's motion to intervene is granted. Id. at 6.

No party filed a petition for review.

The Commission has determined not to review the subject ID.

The Commission vote for this determination took place on September 22, 2023.

The authority for the Commission's determination is contained in section 337 of the Tariff Act of 1930, as amended (19 U.S.C. 1337), and in Part 210 of the Commission's Rules of Practice and Procedure (19 CFR part 210).

By order of the Commission.
Issued: September 22, 2023.
Katherine Hiner,
Supervisory Attorney.

[FR Doc. 2023-21140 Filed 9-27-23; 8:45 am]

BILLING CODE 7020-02-P